DEPARTMENT OF TRANSPORTATION

Pipeline and Hazardous Materials Safety Administration

[Docket No. PHMSA-2016-0128]

Pipeline Safety: Voluntary Information-Sharing System Working Group Nominations

AGENCY: Pipeline and Hazardous Materials Safety Administration (PHMSA), DOT.

ACTION: Request for member nominations; voluntary information-sharing system working group.

SUMMARY: PHMSA is seeking nominations for individuals to serve as members for three-year terms on the Voluntary Information-Sharing System (VIS) Working Group. This is a newly created working group established in accordance with section 10 of the Protecting our Infrastructure of Pipelines and Enhancing Safety (PIPES) Act of 2016 (Pub. L. 114-183), the Federal Advisory Committee Act (FACA) of 1972 (5 U.S.C., App. 2, as amended), and 41 CFR 102-3.50(a). The Secretary of Transportation (Secretary) must convene a working group by December 19, 2016 to consider the development of a voluntary information-sharing system to encourage collaborative efforts to improve inspection information feedback and information sharing with the purpose of improving gas transmission and hazardous liquid pipeline facility integrity risk analysis. PHMSA intends to comply with section 10 of the PIPES Act of 2016 by convening a working group by December 19, 2016.

DATES: Nominations must be received on or before November 28, 2016.

ADDRESSES: All nomination material should be emailed to the Advisory Committee Program Manager Cheryl Whetsel at Cheryl.whetsel@dot.gov or mailed to the Pipeline and Hazardous Materials Safety Administration, 1200 New Jersey Avenue SE., PHP-30, E24-445, Washington, DC 20590, to the attention of Cheryl Whetsel, Advisory Committee Program Manager, PHP-30.

FOR FURTHER INFORMATION CONTACT: Cheryl Whetsel at 202-366-4431 or Cheryl.whetsel@dot.gov.

SUPPLEMENTARY INFORMATION:

I. Duties

The VIS Working Group will consider and provide recommendations to the Secretary as specifically outlined in section 10 of the PIPES Act of 2016:

(a) The need for, and the identification of, a system to ensure that dig verification data are shared with in-line inspection operators to the extent consistent with the need to maintain proprietary and security-sensitive data in a confidential manner to improve pipeline safety and inspection technology;

(b) Ways to encourage the exchange of pipeline inspection information and the development of advanced pipeline inspection technologies and enhanced risk analysis;

(c) Opportunities to share data, including dig verification data between operators of pipeline facilities and in-line inspector vendors to expand knowledge of the advantages and disadvantages of the different types of in-line inspection technology and methodologies;

(d) Options to create a secure system that protects proprietary data while encouraging the exchange of pipeline inspection information and the development of advanced pipeline inspection technologies and enhanced risk analysis;

(e) Means and best practices for the protection of safety- and security-sensitive information and proprietary information; and

(f) Regulatory, funding, and legal barriers to sharing the information described in paragraphs (a) through (d).

The Secretary must publish the VIS Working Group's recommendations on a publicly available Department of Transportation Web site. The VIS Working Group will fulfill its purpose once its recommendations are published online.

II. Membership

The VIS Working Group will consist of no more than 30 members appointed by the Secretary, including representatives from:

(a) PHMSA;

(b) Industry stakeholders, including:

• Operators of pipeline facilities,

• Inspection technology, coating, and cathodic protection vendors, and

• Pipeline inspection organizations;

(c) Safety advocacy groups;

(d) Research institutions;

(e) State public utility commissions or State officials responsible for pipeline safety oversight;

(f) State pipeline safety inspectors;

(g) Labor representatives; and

(h) Other entities, as determined appropriate by the Secretary.

III. Terms of Service

• Each member serves a three-year term unless the member becomes unable to serve, resigns, ceases to be qualified to serve, is removed by the Secretary, or if the VIS Working Group fulfills its purpose before the term ends. The Secretary may reappoint a member to serve additional terms.

• All Group members must be able to attend approximately four meetings each year in Washington, DC, other designated locations, or by teleconference.

• Members serve without compensation although travel expenses, including per diem, may be reimbursed for those performing committee duties away from their homes and regular places of business.

• A member appointed for his or her individual views or advice must be appointed as a Special Government Employee (SGE). Other members will serve as Representatives or Regular Government Employees. SGEs are subject to certain Federal conflict of interest laws.

IV. Nomination Procedures

Any interested person may nominate one or more qualified individuals for membership on the VIS Working Group. Self-nominations are also accepted. The PHMSA Administrator, on behalf of the Secretary, is seeking individuals with diverse experiences and expertise in research and development, academia, human factors, large scale data management, standards for data exchanges, secure information sharing, risk management and risk analysis, natural gas or hazardous liquid pipeline safety, in-line inspection, pipeline anomaly assessment and remediation, pipeline inspection technology, software system development, integrity management, or other related experience.

• Nominations must include a current, complete résumé including business address and home address, telephone number, email address, education, professional or business experience, present occupation, and membership on other working groups or advisory committees, past or present.

• Nominations must include a short biography identifying each nominee's qualifications and expertise.

• Nominations for non-industry positions on the VIS Working Group should highlight relevant experience on panels that dealt with transportation safety, information-sharing systems, technology development, data management, software development, or detail their interest in the subject matter that will be considered by the committee.

• Nominations must acknowledge that the nominee is aware of the nomination unless self-nominated.

Issued in Washington, DC, on November 2, 2016, under authority delegated in 49 CFR 1.97.
Alan K. Mayberry,
Acting Associate Administrator for Pipeline Safety.

[FR Doc. 2016-26905 Filed 11-7-16; 8:45 am]

BILLING CODE 4910-60-P